SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions and one extension of OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

I. The information collections below are pending at SSA. SSA will submit them to OMB within 60 days from the date of this notice. To be sure we consider your comments, we must receive them no later than July 25, 2011. Individuals can obtain copies of the collection instruments by calling the SSA Reports Clearance Officer at 410-965-8783 or by writing to the above e-mail address.

1. Marriage Certification—20 CFR 404.725—0960-0009. SSA uses Form SSA-3 to determine if a spouse claimant has the necessary relationship to the Social Security number holder (i.e., the worker) to qualify for the worker's Old Age, Survivors, and Disability Insurance (OASDI) benefits. The respondents are applicants for a spouse's OASDI benefits.

Type of Request: Extension of an OMB-approved information collection.

Number of Respondents: 180,000.

Frequency of Response: 1.

Average Burden per Response: 5 minutes.

Estimated Annual Burden: 15,000 hours.

2. Statement Regarding Date of Birth and Citizenship—20 CFR 404.716—0960-0016. When individuals apply for Social Security benfits and cannot provide preferred methods of proving age or citizenship, SSA uses Form SSA-702 to establish these facts. Specifically, SSA uses the SSA-702 to establish age as a factor of entitlement to Social Security benefits, or U.S. citizenship as a payment factor. Respondents are individuals with knowledge about the date of birth or citizenship of applicants filing for one or more Social Security benefits who need to establish age or citizenship.

Type of Request: Revision of an OMB-approved information collection.

Number of Respondents: 1,200.

Frequency of Response: 1.

Average Burden per Response: 10 minutes.

Estimated Annual Burden: 200.

3. Letter to Landlord Requesting Rental Information—20 CFR 416.1130 (b)—0960-0454. SSA uses Form SSA-L5061 to identify rental subsidy arrangements involving applicants for and recipients of Supplemental Security Income (SSI) payments. SSA uses the information to determine an income value for these subsidies, eligibility for payments, and the correct amount payable. The respondents are landlords of the SSI claimants.

Type of Request: Revision of an OMB-approved information collection.

Number of Respondents: 51,000.

Frequency of Response: 1.

Average Burden per Response: 10 minutes.

Estimated Annual Burden : 8,500 hours.

II. SSA submitted the information collections below to OMB for clearance. Your comments regarding the information collections would be most useful if OMB and SSA receive them within 30 days from the date of this publication. To be sure we consider your comments, we must receive them no later than June 27, 2011. Individuals can obtain copies of the OMB clearance packages by calling the SSA Reports Clearance Officer at 410-965-8783 or by writing to the above e-mail address.

1. Statement Regarding Marriage—20 CFR 404.726—0960-0017. Section 216(h)(1)(A) of the Social Security Act directs SSA to apply State law to determine an individual's marital relationship. Some State laws recognize marriages without a ceremony (i.e., common-law marriages). In such cases, SSA provides the same spouse or widow(er) benefits to the common-law spouses as it does to ceremonially married spouses. To determine common-law spouses, SSA must elicit information from blood relatives or other persons who are knowledgeable about the alleged common-law relationship. SSA uses Form SSA-753, Statement Regarding Marriage, to collect information from third parties to verify the applicant's statements about intent, cohabitation, and holding out to the public as married, which are the basic tenets of a common-law marriage. SSA uses the information to determine if a valid marital relationship exists, and if the common-law spouse is entitled to Social Security spouse or widow(er) benefits. The respondents are third parties who can confirm or deny the alleged common-law marriage.

Type of Request: Revision of an OMB-approved information collection.

Number of Respondents: 40,000.

Frequency of Response: 1.

Average Burden per Response: 9 minutes.

Estimated Annual Burden: 6,000 hours.

2. Statement Regarding Contributions—20 CFR 404.360-404.366 and 404.736—0960-0020. SSA examines a child's current source of support when determining the child's entitlement to Social Security benefits. To make this determination, SSA collects information on Form SSA-783. The respondents are individuals providing information about a child's source of support.

Type of Request: Revision of an OMB-approved information collection.

Number of Respondents: 30,000.

Frequency of Response: 1.

Average Burden per Response: 17 minutes.

Estimated Annual Burden: 8,500 hours.

3. Questionnaire About Employment or Self-Employment Outside the United States—20 CFR 404.401(b)(1), 404.415 & 404.417—0960-0050. SSA collects information on the SSA-7163 to determine: (1) Whether work beneficiaries performed outside the United States is cause for deductions from their monthly benefits; (2) which of two work tests (foreign or regular test) is applicable; and (3) the number of months, if any, SSA should impose deductions. Respondents are beneficiaries living and working outside the United States.

Type of Request: Revision of an OMB-approved information collection.

Number of Respondents: 20,000.

Frequency of Response: 1.

Average Burden per Response: 12 minutes.

Estimated Annual Burden: 4,000 hours.

4. Statement of Income and Resources—20 CFR 416.207, 146.301, 416.310, 416.704, and 416.708—0960-0124. SSA collects information about income and resources on the SSA-8010-BK for SSI claims and redeterminations. SSA uses the information to make initial or continuing eligibility determinations for SSI claimants or recipients who are subject to deeming. The respondents are persons whose income and resources SSA may deem (consider to be available) to SSI applicants or recipients.

Type of Request: Revision of an OMB-approved information collection.

Number of Respondents: 341,000.

Frequency of Response: 1.

Average Burden per Response: 26 minutes.

Estimated Annual Burden: 147,767 hours.

5. Statement of Death by Funeral Director—20 CFR 404.715 and 404.720—0960-0142. When a Social Security-insured worker dies, the funeral director or funeral home responsible for the worker's burial or cremation completes Form SSA-721 and sends it to SSA. SSA uses this information for three purposes: (1) To establish proof of death for the insured worker; (2) to determine if the insured worker was receiving any pre-death benefits that SSA needs to terminate; and (3) to ascertain which surviving family member is eligible for the lump-sum death payment or other death benefits. The respondents are funeral directors who handle funeral arrangements for the insured individuals.

Type of Request: Revision of an OMB-approved information collection.

Number of Respondents: 319,811.

Frequency of Response: 1.

Average Burden per Response: 3.5 minutes.

Estimated Annual Burden: 18,656 hours.

6. Request for Hearing by Administrative Law Judge—20 CFR 404.929, 404.933, 416.1429, 404.1433, 405.722, 418.1350—0960-0269. When SSA denies applicants' or beneficiaries' requests for new or continuing benefits, those applicants or beneficiaries are entitled to request a hearing to appeal the decision. SSA uses the information from Form HA-501 to determine if the individual filed the request within the prescribed time, is the proper party, and has taken the steps necessary to obtain the right to a hearing. SSA also uses the information to determine the individual's reason(s) for disagreeing with SSA's prior determinations in the case, if the individual has additional evidence to submit, if the individual wants an oral hearing or a decision on-the-record, and whether the individual has (or wants to appoint) a representative. The respondents are Social Security benefit applicants and recipients who want to appeal SSA's denial of their request for new or continued benefits and Medicare Part B recipients who must pay the Medicare Part B Income-Related Monthly Adjustment Amount.

Type of Request: Revision of an OMB-approved information collection.

Collection method | Number of respondents | Frequency of response | Estimated completion time (minutes) | Total burden (hours)
Paper & Modernized Claims System | 33, 473 | 1 | 10 | 5,579
i501 | 635,996 | 1 | 19 | 201,399
Totals | 669,469 |  |  | 206,978
* This is a correction notice: SSA published incorrect burden information for this collection at 76 FR 1835 on 3/03/11. We are correcting this error here.

7. Review of the Disability Hearing Officer's Reconsidered Determinations Before It Is Issued—20 CFR 404.913-404.918, 404.1512-404.1515, 404.1589, 416.912-416.915, 416.989, 416.1413-416.1418, 404.918(d) and 416.1418(d)—0960-0709. After SSA approves claimants for Social Security disability benefits or SSI payments, SSA periodically conducts a continuing disability review (CDR). During a CDR, the agency reviews claimants' status to see if their condition improved to the point they are capable of working, and if so, to reduce or stop their benefits or payments. If SSA notifies a claimant that the agency will stop benefits or payments, the claimant may appeal the determination. The first appeal gives the claimant the opportunity for a full evidentiary hearing before a disability hearing officer (DHO).

For quality review purposes, a Federal component reviews a small sample of DHO's determinations. It is rare for the reviewing component to reverse a DHO determination favorable to the claimant. Before SSA can issue an unfavorable determination, we give the claimant 10 days to provide a written statement explaining why SSA should not stop payments. The written statement is the information SSA collects in this process. Respondents are CDR claimants whose payments are going to cease.

Type of Request: Extension of an OMB-approved information collection.

Number of Respondents: 8.

Frequency of Response: 1.

Average Burden per Response: 60 minutes.

Estimated Annual Burden: 8 hours.

Dated: May 23, 2011.
Faye Lipsky,
Reports Clearance Officer, Center for Reports Clearance, Social Security Administration.

[FR Doc. 2011-13087 Filed 5-25-11; 8:45 am]

BILLING CODE 4191-02-P